DEPARTMENT OF DEFENSE

Office of the Secretary

[Transmittal No. 24-20]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-20, Policy Justification, and Sensitivity of Technology.

Dated: January 8, 2026.
Stephanie J. Bost,
Alternate OSD Federal Register Liaison Officer, Department of Defense.

BILLING CODE 6001-FR-P

BILLING CODE 6001-FR-C

Transmittal No. 24-20

Notice of Proposed Issuance of Letter of Offer Pursuant to Section 36(b)(1) of the Arms Export Control Act, as amended

(i) Prospective Purchaser: Kingdom of Morocco

(ii) Total Estimated Value:

Major Defense Equipment * | $69.13 million
Other | $19.24 million
TOTAL | $88.37 million

Funding Source: National Funds

(iii) Description and Quantity or Quantities of Articles or Services under Consideration for Purchase:

Major Defense Equipment (MDE):

Up to thirty (30) AIM-120C-8 Advanced Medium Range Air-to-Air Missiles (AMRAAM)

One (1) AIM-120C-8 AMRAAM Guidance Section

Non-MDE:

Also included are AMRAAM telemetry kits, control section spares, and containers; Common Munitions Built-in-Test Reprogramming Equipment (CMBRE); ADU-891 Computer Test Set Adapter Groups; munitions support and support equipment; classified software delivery and support; spare parts, consumables, accessories, and repair and return support; transportation support; classified publications and technical documentation; studies and surveys; United States (U.S.) Government and contractor engineering, technical, and logistics support services; and other related elements of logistics and program support.

(iv) Military Department: Air Force (MO-D-YAC)

(v) Prior Related Cases, if any: None

(vi) Sales Commission, Fee, etc., Paid, Offered, or Agreed to be Paid: None known

(vii) Sensitivity of Technology Contained in the Defense Article or Defense Services Proposed to be Sold: See Attached Annex

(viii) Date Report Delivered to Congress: December 20, 2024

* as defined in Section 47(6) of the Arms Export Control Act.

POLICY JUSTIFICATION

Kingdom of Morocco—Advanced Medium Range Air-to-Air Missiles

The Kingdom of Morocco has requested to buy up to thirty (30) AIM-120C-8 Advanced Medium Range Air-to-Air Missiles (AMRAAM) and one (1) AIM-120C-8 AMRAAM guidance section. Also included are AMRAAM telemetry kits, control section spares, and containers; Common Munitions Built-in-Test Reprogramming Equipment (CMBRE); ADU-891 Computer Test Set Adapter Groups; munitions support and support equipment; classified software delivery and support; spare parts, consumables, accessories, and repair and return support; transportation support; classified publications and technical documentation; studies and surveys; U.S. Government and contractor engineering, technical, and logistics support services; and other related elements of logistics and program support. The estimated total cost is $88.37 million.

This proposed sale will support the foreign policy and national security of the U.S. by helping to improve the security of a major non-NATO Ally that continues to be an important force for political stability and economic progress in North Africa.

The proposed sale will improve the Kingdom of Morocco's capability to meet current and future threats by ensuring it has modern, capable air-to-air munitions to meet its mission in securing its borders and territorial waters, countering terrorism and illicit trafficking, and using its newly acquired F-16 Block 72 fleet. The Kingdom of Morocco will have no difficulty absorbing this equipment into its armed forces.

The proposed sale of this equipment and support will not alter the basic military balance in the region.

The prime contractor will be RTX Corporation located in Tucson, AZ. There are no known offset agreements proposed in connection with this potential sale.

Implementation of this proposed sale will not require the assignment of any additional U.S. Government or contractor representatives to the Kingdom of Morocco.

There will be no adverse impact on U.S. defense readiness as a result of this proposed sale.

Transmittal No. 24-20

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air-launched, aerial intercept guided missile featuring digital technology and micro-miniature solid-state electronics. AMRAAM capabilities include look-down and shoot-down, multiple launches against multiple targets, resistance to electronic countermeasures, and interception of high-flying and low-flying and maneuvering targets.

2. Common Munitions Built-In-Test (BIT)/Reprogramming Equipment (CMBRE) is supporting equipment used to interface with weapon systems to initiate and report BIT results and to upload and download flight software.

3. The ADU-891 Adapter Group Test Set provides the physical and electrical interface between the CMBRE and the missile.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that the Kingdom of Morocco can provide substantially the same degree of protection for the sensitive technology being released as the U.S. Government. This sale is necessary in furtherance of the U.S. foreign policy and national security objectives outlined in the Policy Justification.

7. All defense articles and services listed in this transmittal have been authorized for release and export to the Kingdom of Morocco.

[FR Doc. 2026-00365 Filed 1-9-26; 8:45 am]

BILLING CODE 6001-FR-P